ENVIRONMENTAL PROTECTION AGENCY

[EPA-R04-OAR-2010-0019; FRL-9114-2]

Adequacy Status of the North Carolina Portion of the Charlotte-Gastonia-Rock Hill Bi-State Area Reasonable Further Progress Plan 8-Hour Ozone Sub-Area Motor Vehicle Emission Budgets for Transportation Conformity Purposes

AGENCY: Environmental Protection Agency (EPA).

ACTION: Notice of Adequacy.

SUMMARY: EPA is notifying the public that it has found that the sub-area motor vehicle emissions budgets (MVEBs) for the North Carolina portion of the Charlotte-Gastonia-Rock Hill bi-state area (hereafter referred to as the Charlotte bi-state area) in the 1997 8-Hour Ozone Reasonable Further Progress (RFP) plan, submitted on November 30, 2009, by the North Carolina Department of Air Quality (NC DAQ), are adequate for transportation conformity purposes. The bi-state Charlotte moderate 1997 8-hour ozone area is comprised of Charlotte-Gastonia in North Carolina; and Rock Hill (a portion of York County), South Carolina. The North Carolina portion of the Charlotte bi-state area is comprised of the following sub-areas or counties: Cabarrus, Gaston, partial of Iredell (Davidson and Coddle Creek Townships), Lincoln, Mecklenburg, Rowan, and Union. North Carolina's RFP plan includes the required MVEBs for volatile organic compounds (VOC), and voluntary MVEBs for nitrogen oxides (NOX). This action relates only to the North Carolina portion of the Charlotte bi-state area. EPA is considering South Carolina's RFP for the applicable portion of York County in a separate action. As a result of EPA's finding, which is being announced in this notice, the North Carolina portion of the Charlotte bi-state area must use the sub-area MVEBs for future conformity determinations for the 1997 8-hour ozone standard.

DATES: These sub-area MVEBs are effective March 8, 2010.

FOR FURTHER INFORMATION CONTACT: Dianna Smith, U.S. Environmental Protection Agency, Region 4, Air Planning Branch, 61 Forsyth Street, SW., Atlanta, Georgia 30303. Ms. Smith can also be reached by telephone at (404) 562-9207, or via electronic mail at smith.dianna@epa.gov. The finding is available at EPA's conformity Web site: http://www.epa.gov/otaq/stateresources/transconf/currsips.htm.

SUPPLEMENTARY INFORMATION: This notice is simply an announcement of a finding that EPA has already made. EPA Region 4 sent a letter to NC DAQ on January 12, 2010, stating that the sub-area MVEBs identified for the North Carolina portion of the Charlotte bi-state area in the 1997 8-hour ozone RFP plan, submitted on November 30, 2009, are adequate and must be used for transportation conformity determinations in the North Carolina portion of the Charlotte bi-state area.

EPA posted the availability of the sub-area MVEBs contained in the North Carolina RFP plan on EPA's Web site on December 3, 2009, as part of the adequacy process, for the purpose of soliciting comments. EPA's adequacy comment period ran from December 3, 2009, through January 3, 2010. During EPA's adequacy comment period, no adverse comments were received on the MVEBs for North Carolina portion of the Charlotte bi-state area. Through this notice, EPA is informing the public that these sub-area MVEBs are adequate for transportation conformity. This finding has also been announced on EPA's conformity Web site: http://www.epa.gov/otaq/stateresources/transconf/pastsips.htm. The adequate sub-area MVEBs are provided in the following table:

CHARLOTTE (North Carolina Portion) 8-Hour Ozone MVEBS
[kilograms/day]
County | VOC | NOx
2008 Sub-Area MVEBS
Cabarrus | 6,941 | 7,324
Gaston | 5,132 | 7,647
Iredell* | 3,601 | 5,637
Lincoln | 2,726 | 2,948
Mecklenburg | 26,368 | 34,526
Rowan | 6,149 | 7,193
Union | 6,299 | 5,660
*Iredell County MVEB for nonattainment area only.

Transportation conformity is required by section 176(c) of the Clean Air Act. EPA's conformity rule, 40 CFR Part 93, requires that transportation plans, programs and projects conform to state air quality implementation plans and establishes the criteria and procedures for determining whether or not they do so. Conformity to a state implementation plan (SIP) means that transportation activities will not produce new air quality violations, worsen existing violations, or delay timely attainment of the national ambient air quality standards.

The criteria by which EPA determines whether a SIP's MVEBs are adequate for transportation conformity purposes are outlined in 40 CFR 93.118(e)(4). EPA has also described the process for determining the adequacy of submitted SIP budgets in a July 1, 2004, final rulemaking entitled, “Transportation Conformity Rule Amendments for the New 8-hour Ozone and PM2.5 National Ambient Air Quality Standards and Miscellaneous Revisions for Existing Areas; Transportation Conformity Rule Amendments: Response to Court Decision and Additional Rule Changes” (69 FR 40004). Please note that an adequacy review is separate from EPA's completeness review, and it should not be used to prejudge EPA's ultimate approval of the RFP plan for the North Carolina portion of the Charlotte bi-state area. Even if EPA finds a budget adequate, the RFP plan submittal could later be disapproved.

Within 24 months from the effective date of this notice, the transportation partners will need to demonstrate conformity to the new MVEBs, if the demonstration has not already been made, pursuant to 40 CFR 93.104(e). See, 73 FR 4419 (January 24, 2008).

Authority: 42 U.S.C. 7401 et seq.

Dated: February 3, 2010.
A. Stanley Meiburg,
Acting Regional Administrator, Region 4.

[FR Doc. 2010-3239 Filed 2-18-10; 8:45 am]

BILLING CODE 6560-50-P